DEPARTMENT OF LABOR

Office of Workers' Compensation Programs

[OMB Control No. 1240-0060]

Proposed Extension of Information Collection; 1240-0060 Division of Energy Employees Occupational Illness (DEEOIC) Authorization Forms

AGENCY: Division of Energy Employees Occupational Illness Compensation, Office of Workers' Compensation Programs, (OWCP/DEEOIC), Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the OWCP/DEEOIC is soliciting comments on the information collection for DEEOIC Authorization Forms, EE-22, EE-24, EE-26, EE-28, EE-30, EE-32.

DATES: All comments must be received on or before April 12, 2024.

ADDRESSES: You may submit comment as follows. Please note that late, untimely filed comments will not be considered.

Written/Paper Submissions: Submit written/paper submissions in the following way:

• Mail/Hand Delivery: Mail or visit DOL-OWCP/DEEOIC, Office of Workers' Compensation Programs, Division of Energy Employees Occupational Illness Compensation, U.S. Department of Labor, 200 Constitution Ave. NW, Room S3323, Washington, DC 20210.

• OWCP/DEEOIC will post your comment as well as any attachments, except for information submitted and marked as confidential, in the docket at https://www.regulations.gov.

FOR FURTHER INFORMATION CONTACT: Anjanette Suggs, Office of Workers' Compensation Programs, at suggs.anjanette@dol.gov (email) or (202) 354-9660 (voice).

SUPPLEMENTARY INFORMATION:

I. Background

The Office of Workers' Compensation Programs (OWCP) is the primary agency responsible for administration of the Energy Employees Occupational Illness Compensation Program Act of 2000, as amended (EEOICPA), 42 U.S.C. 7384 et seq. EEOICPA provides for the payment of compensation to covered employees and, where applicable, survivors of deceased employees, who sustained either an “occupational illness” or a “covered illness” in the performance of duty for the Department of Energy and certain of its contractors and subcontractors. One element of the compensation provided to covered employees is medical benefits for the treatment of their occupational or covered illnesses that are accepted as compensable. OWCP contracts with a private sector bill processing agent that handles many of the tasks associated with paying bills for medical treatment provided to covered employees under EEOICPA. This bill processing agent uses an automated system that matches incoming bills with the authorized medical treatment of covered employees before it issues payments, and a provider of medical treatment, supplies or services to covered employees must provide the bill processing agent with information necessary for creation of an authorization within the agent's automated system before a bill can be paid. The collection of this information is authorized by 20 CFR 30.400(a) and (c), 30.403, 30.404(b) and 30.700. The information collections in this ICR collect demographic, factual and medical information that OWCP and/or its bill processing agent needs to process bills for medical treatment, supplies or services.

II. Desired Focus of Comments

OWCP is soliciting comments concerning the proposed information collection related to the DEEOIC Authorization Forms, EE-22, EE-24, EE-26, EE-28, EE-30, EE-32. OWCP/DEEOIC is particularly interested in comments that:

• Evaluate whether the collection of information is necessary for the proper performance of the functions of the Agency, including whether the information has practical utility;

• Evaluate the accuracy of OWCP/DEEOIC/s estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-OWCP/DEEOIC located at 200 Constitution Avenue NW, Washington, DC 20210. Questions about the information collection requirements may be directed to the person listed in the FOR FURTHER INFORMATION CONTACT section of this notice.

III. Current Actions

This information collection request concerns OWCP/DEEOIC Authorization Forms (EE-22, EE-24, EE-26, EE-28, EE-30, EE-32 has updated the data with respect to the number of respondents, responses, burden hours, and burden costs supporting this information collection request from the previous information collection request.

Type of Review: Extension, without change, of a currently approved collection.

Agency: Office of Workers' Compensation Programs, Division of Energy Employees Occupational Illness Compensation (OWCP/DEEOIC).

OMB Number: 1240-0060.

Affected Public: Individuals or households; business.

Number of Respondents: 12,890.

Frequency: Varies by form.

Number of Responses: 66,770.

Annual Burden Hours: 11,129 hours.

DEEOIC Forms, EE-22, EE-24, EE-26, EE-28, EE-30, EE-32. DEEOIC Authorization Forms.

Comments submitted in response to this notice will be summarized in the request for Office of Management and Budget approval of the proposed information collection request; they will become a matter of public record and will be available at https://www.reginfo.gov.

Anjanette Suggs,
Certifying Officer.

[FR Doc. 2024-02746 Filed 2-9-24; 8:45 am]

BILLING CODE 4510-CR-P